FEDERAL ELECTION COMMISSION

[Notice 2017-05]

Filing Dates for the Georgia Special Election in the 6th Congressional District

AGENCY: Federal Election Commission.

ACTION: Notice of filing dates for special election.

SUMMARY: Georgia has scheduled a Special General Election on April 18, 2017, to fill the U.S. House of Representatives seat in the 6th Congressional District vacated by Representative Tom Price. Under Georgia law, a majority winner in a special election is declared elected. Should no candidate achieve a majority vote, a Special Runoff Election will be held on June 20, 2017, between the top two vote-getters.

Political committees participating in the Georgia special elections are required to file pre- and post-election reports. Filing deadlines for these reports are affected by whether one or two elections are held.

FOR FURTHER INFORMATION CONTACT: Ms. Elizabeth S. Kurland, Information Division, 999 E Street NW., Washington, DC 20463; Telephone: (202) 694-1100; Toll Free (800) 424-9530.

SUPPLEMENTARY INFORMATION:

Principal Campaign Committees

All principal campaign committees of candidates who participate in the Georgia Special General and Special Runoff Elections shall file a 12-day Pre-General Report on April 6, 2017; a 12-day Pre-Runoff Report on June 8, 2017; and a Post-Runoff Report on July 21, 2017. (See charts below for the closing date for each report.)

If only one election is held, all principal campaign committees of candidates in the Special General Election shall file a 12-day Pre-General Report on April 6, 2017; and a 30-day Post-General Report on May 18, 2017. (See charts below for the closing date for each report.)

Note that these reports are in addition to the campaign committee's regular quarterly filings. (See charts below for the closing date for each report).

Unauthorized Committees (PACs and Party Committees)

Political committees not filing monthly in 2017 are subject to special election reporting if they make previously undisclosed contributions or expenditures in connection with the Georgia Special General Election and/or Special Runoff Election by the close of books for the applicable report(s). (See charts below for the closing date for each report.)

Committees filing monthly that make contributions or expenditures in connection with the Georgia Special General or Special Runoff Election will continue to file according to the monthly reporting schedule.

Additional disclosure information in connection with the Georgia Special Election may be found on the FEC Web site at http://www.fec.gov/info/report_dates.shtml.

Disclosure of Lobbyist Bundling Activity

Principal campaign committees, party committees and Leadership PACs that are otherwise required to file reports in connection with the special elections must simultaneously file FEC Form 3L if they receive two or more bundled contributions from lobbyists/registrants or lobbyist/registrant PACs that aggregate in excess of $17,900 during the special election reporting periods. (See charts below for closing date of each period.) 11 CFR 104.22(a)(5)(v), (b).

Calendar of Reporting Dates for Georiga Special Election
Report | Close of Books ¹ | Reg./cert. & overnight mailing deadline | Filing deadline
If Only the Special General Is Held (04/18/17), Participating Campaign Committees Must File
Pre-General | 03/29/17 | 04/03/17 | 04/06/17
April Quarterly | —WAIVED—
Post-General | 05/08/17 | 05/18/17 | 05/18/17
July Quarterly | 06/30/17 | 07/15/17 | ² 07/15/17
If Only the Special General Is Held (04/18/17), Participating PACs and Party Committees not Filing Monthly Must File
Pre-General | 03/29/17 | 04/03/17 | 04/06/17
Post-General | 05/08/17 | 05/18/17 | 05/18/17
Mid-Year | 06/30/17 | 07/31/17 | 07/31/17
If Two Elections Are Held, Campaign Committees Involved Only in the Special General (04/18/17) Must File
Pre-General | 03/29/17 | 04/03/17 | 04/06/17
April Quarterly | —WAIVED—
July Quarterly | 06/30/17 | 07/15/17 | ² 07/15/17
If Two Elections Are Held, PACs and Party Committees not Filing Monthly Involved Only in the Special General (04/18/17) Must File
Pre-General | 03/29/17 | 04/03/17 | 04/06/17
Mid-Year | 06/30/17 | 07/31/17 | 07/31/17
Campaign Committees Involved in the Special General (04/18/17) and Special Runoff (06/20/17) Must File
Pre-General | 03/29/17 | 04/03/17 | 04/06/17
April Quarterly | —WAIVED—
Pre-Runoff | 05/31/17 | 06/05/17 | 06/08/17
July Quarterly | —WAIVED—
Post-Runoff | 07/10/17 | 07/21/17 | 07/21/17
October Quarterly | 09/30/17 | 10/15/17 | ² 10/15/17
PACs and Party Committees not Filing Monthly Involved in the Special General (04/18/17) and Special Runoff (06/20/17) Must File
Pre-General | 03/29/17 | 04/03/17 | 04/06/17
Pre-Runoff | 05/31/17 | 06/05/17 | 06/08/17
Post-Runoff | 07/10/17 | 07/21/17 | 07/21/17
Mid-Year | —WAIVED—
Year-End | 12/31/17 | 01/31/18 | 01/31/18
Campaign Committees Involved Only in the Special Runoff (06/20/17) Must File
Pre-Runoff | 05/31/17 | 06/05/17 | 06/08/17
July Quarterly | —WAIVED—
Post-Runoff | 07/10/17 | 07/21/17 | 07/21/17
October Quarterly | 09/30/17 | 10/15/17 | ² 10/15/17
PACs and Party Committees not Filing Monthly Involved Only in the Special Runoff (06/20/17) Must File
Pre-Runoff | 05/31/17 | 06/05/17 | 06/08/17
Post-Runoff | 07/10/17 | 07/21/17 | 07/21/17
Mid-Year | —WAIVED—
Year-End | 12/31/17 | 01/31/18 | 01/31/18
¹ The reporting period always begins the day after the closing date of the last report filed. If the committee is new and has not previously filed a report, the first report must cover all activity that occurred before the committee registered as a political committee up through the close of books for the first report due.
² Notice that this filing deadline falls on a weekend or federal holiday. Filing deadlines are not extended when they fall on nonworking days. Accordingly, reports filed by methods other than registered, certified or overnight mail must be received by close of business on the last business day before the deadline.

On behalf of the Commission,
Dated: February 16, 2017.
Steven T. Walther,
Chairman, Federal Election Commission.

[FR Doc. 2017-03892 Filed 2-27-17; 8:45 am]

BILLING CODE 6715-01-P